DEPARTMENT OF HOMELAND SECURITY

Coast Guard

DEPARTMENT OF TRANSPORTATION

Maritime Administration

[USCG 2003-14134]

Port Pelican LLC Deepwater Port License Application; Preparation of Environmental Impact Statement

AGENCY: Coast Guard, DHS, and Maritime Administration, DOT.

ACTION: Notice of intent and request for public comments.

SUMMARY: The U.S. Coast Guard and the Maritime Administration (MARAD) announce their intent to prepare an environmental impact statement (EIS) for the project described in the Port Pelican LLC Deepwater Port License Application. The plan description in the license application calls for construction of a liquefied natural gas (LNG) Deepwater Port known as “Port Pelican” and associated anchorage in the Gulf of Mexico, approximately 36 miles south southwest of Fresh Water City, Louisiana, located in Outer Continental Shelf (OCS) Block Vermillion 140. Port Pelican would deliver natural gas to the U.S. Gulf Coast using existing gas supply and gathering systems in the Gulf of Mexico and southern Louisiana. Gas would then be delivered to shippers using the national pipeline grid though interconnections with major interstate and intrastate pipelines. The Coast Guard seeks public and agency input on the scope of the EIS. Specifically, the Coast Guard requests input on any environmental concerns that the public may have related to the proposal to construct a new Deepwater Port, sources of relevant data or information, and any suggested analysis methods for inclusion in the EIS.

DATES: Comments and related material must reach the Docket on or before May 7, 2003.

ADDRESSES: Comments may be submitted in several ways. To make sure your comments and related material are not entered more than once in the docket, please submit them by only one of the following means:

(1) By mail to the Docket Management Facility (USCG-2003-14134), U.S. Department of Transportation, Room PL-401, 400 Seventh Street, SW., Washington, DC 20590-0001.

(2) By delivery to Room PL-401 on the Plaza Level of the Nassif Building, 400 Seventh Street, SW., Washington DC between 9 a.m. and 5 p.m., Monday through Friday, except Federal holidays. The telephone number is (202) 366-9329.

(3) By fax to the Docket Management Facility at (202) 493-2251.

(4) Electronically through the Web site for the Docket Management System at http://dms.dot.gov.

The Docket Management Facility maintains the public docket for this notice. Comments will become part of this docket and will be available for inspection or copying in Room PL-401, located on the Plaza Level of the Nassif Building at the above address between 9 a.m. and 5 p.m., Monday through Friday, except for Federal holidays. You may also view this docket, including this notice and comments, on the Internet at http://dms.dot.gov.

FOR FURTHER INFORMATION CONTACT: If you have questions about the project, you may contact Commander Mark Prescott, U.S. Coast Guard at (202) 267-0225 or mprescott@comdt.uscg.mil. For questions on viewing or submitting materials to the docket, contact Dorothy Beard, Chief, Dockets, DOT, at (202) 366-5149.

SUPPLEMENTARY INFORMATION:

Request for Comments

We encourage you to submit comments and related materials on this notice. Persons submitting comments should include their names and addresses, this notice reference number (USCG-2003-14134), and the reasons for each comment. You may submit your comments and materials by mail, hand delivery, fax, or electronic means to the Docket Management Facility at the address given under ADDRESSES. If you choose to submit them by mail or hand delivery, submit them in an unbound format, no larger than 8½ by 11 inches, and suitable for copying and electronic filing. If you submit them by mail and would like to know if they reached the Facility, please enclose a stamped, self-addressed postcard or envelope. We will consider all comments and materials received during the comment period. (For additional information about this notice or the EIS, contact Commander Mark Prescott, U.S. Coast Guard at (202) 267-0225 or mprescott@comdt.uscg.mil.)

Background Information

The Deepwater Port Act of 1974, as amended (the Act, 33 U.S.C. 1501 et seq.), defines a deepwater port as any fixed or floating manmade structure other than a vessel, or any group of such structures, that are located beyond State seaward boundaries and that are used or intended for use as a port or terminal for the transportation, storage, or further handling of oil or natural gas for transportation to any State. The Act provides that an applicant must submit detailed plans for a proposed facility to the Secretary of Transportation, along with its license application. The Secretary has delegated the processing of deepwater port applications to the Coast Guard and the Maritime Administration (MARAD). The Act provides “For all applications, the Secretary, in cooperation with other involved Federal agencies and departments, shall comply with the National Environmental Policy Act (NEPA) of 1969 (42 U.S.C. 4332).” This notice is intended to meet the requirements of NEPA and to provide general information about the procedure that will be followed in complying with NEPA.

Proposed Action

The Coast Guard intends to prepare an EIS consistent to the maximum extent practicable with the Deepwater Port Act of 1974, as amended (the Act, 33 U.S.C. 1501 et seq.), NEPA (Section 102(2)(c), as implemented by the Council on Environmental Quality (CEQ) regulations (40 CFR Parts 1500-1508)), Department of Transportation (DOT) Order 5610.1C (Procedures for Considering Environmental Impacts), and Coast Guard Policy (Commandant's Instruction (COMDTINST) M16475.1D). The Coast Guard anticipates having one or more cooperating agencies in this endeavor.

NEPA requires Federal agencies to consider environmental impacts that may result from a proposed action, to inform the public of potential impacts and alternatives, and to facilitate public involvement in the assessment process. The EIS describes in detail the nature and extent of the environmental impacts of the Proposed Action and each alternative and discusses appropriate mitigation measures for any adverse impacts. An EIS includes, among other matters, discussions of the purpose and need for the Proposed Action, a description of alternatives, a description of the affected environment, and an evaluation of the environmental impacts of the Proposed Action and alternatives.

The Port Pelican EIS will assess the impacts of the alternatives, including approving or not approving (No Action Alternative) the license application to construct and operate Port Pelican, on the natural and human environment. The application addresses the Port Pelican Terminal (the Terminal), an LNG receiving, storage and regasification facility, and the Pelican Interconnector Pipeline (PIPL) to transport the gas to the existing offshore gas gathering and transmission system. Port Pelican would consist of two concrete gravity based structure (GBS) units fixed to the seabed, which would include integral LNG storage tanks, support deck mounted LNG receiving and vaporization equipment and utilities, berthing accommodations for LNG carriers, facilities for delivery of natural gas to a pipeline transportation system, and personnel accommodations. The Terminal would be able to receive the largest LNG carriers currently in service or under contract for construction. All marine systems, communication, navigation aids and equipment necessary to conduct safe LNG carrier operations and receiving of product would be provided at the port.

The Terminal would be constructed in two phases. Phase I includes the installation of the two GBS units with internal storage tanks and facilities for LNG offloading, and vaporization capability to deliver a peak 1.0 billion standard cubic feet per day (SCFD) of natural gas to the pipeline system. Additional vaporization equipment and associated support equipment and facilities would be installed during Phase II to increase the peak facility vaporization and send out rate to 2.0 billion SCFD.

As required by NEPA, the Coast Guard also will analyze the No Action Alternative as a baseline for comparing the impacts of the proposed project. For the purposes of this project, the No Action Alternative is defined as not approving the Port Pelican LLC Deepwater Port License Application. The Coast Guard encourages public participation in the EIS process. The scoping period will begin upon publication of this notice in the Federal Register and continue for a period of 30 days. A scoping meeting may be held. If one is held, the date and location of the meeting will be announced separately in the Federal Register. Multiple methods for providing comments are available, including mail, Internet and fax.

Following the scoping process, the Coast Guard will prepare a draft EIS. A Notice of Availability will be published in the Federal Register when the draft EIS is available. Public notices will be mailed or emailed to those who have requested a copy of the draft EIS. The public will be provided an opportunity to review the draft EIS and to offer appropriate comments.

Comments received during the draft EIS review period will be available in the public docket and made available in the final EIS. A Notice of Availability of the final EIS will also be published in the Federal Register.

Dated: March 31, 2003.
Howard L. Hime,
Acting Director of Standards, Marine Safety, Security, and Environmental Protection, U.S. Coast Guard.
Margaret D. Blum,
Associate Administrator, Port, Intermodal, and Environmental Activities, U.S. Maritime Administration.

[FR Doc. 03-8450 Filed 4-3-03; 8:45 am]

BILLING CODE 4910-15-P